DEPARTMENT OF VETERANS AFFAIRS

Notice of Funds Availability for Grants for Transportation of Veterans in Highly Rural Areas; Extension of Application Deadline

AGENCY: Department of Veterans Affairs.

ACTION: Notice; extension of NOFA application deadline.

SUMMARY: This notice extends the Department of Veterans Affairs (VA) application deadline for funds available under the Grants for Transportation of Veterans in Highly Rural Areas program. VA published a Notice of Funds Availability (NOFA) in the Federal Register on July 9, 2013 (78 FR 41195) to announce the availability of funds for applications beginning June 9, 2013 through September 9, 2013, 4 p.m. eastern standard time. The NOFA includes eligibility and scoring criteria for grants to assist veterans in highly rural areas through innovative transportation services to travel to VA and non-VA facilities and otherwise assist in providing transportation services in connection with the provision of VA medical care. To allow applicants more time to complete the application process, VA is extending the application deadline to midnight eastern standard time on February 3, 2014.

DATES: Applications must be received in accordance with this NOFA no later than midnight eastern standard time on February 3, 2014.

Applications must be uploaded as a complete package into www.grants.gov. Applications may not be sent by fax.

FOR FURTHER INFORMATION CONTACT: Darren Wallace, National Coordinator, Highly Rural Transportation Grants, Veterans Transportation Program, Chief Business Office (10NB2G), 2957 Clairmont Road, Atlanta, GA 30329; (404) 828-5380. (This is not a toll-free number.)

For a copy of the Application Package: Download directly from http://www.grants.gov/web/grants/home.html. Click on search for grants and on the left side type in 64.035 in the box that says CFDA Number. Questions should be referred to the Veterans Transportation Program Office at (404) 828-5380 (this is not a toll-free number) or by email at HRTG@va.gov. For detailed program information and requirements, see the final rule published in the Federal Register on April 2, 2013 (78 FR 19586), which is codified at 38 CFR 17.700 through 17.730.

Robert C. McFetridge,
Director, Regulation Policy and Management, Office of the General Counsel, Department of Veterans Affairs.

[FR Doc. 2013-28859 Filed 12-2-13; 8:45 am]

BILLING CODE 8320-01-P